DEPARTMENT OF THE INTERIOR

National Park Service

[NPS-WASO-NAGPRA-22485; PPWOCRADN0-PCU00RP14.R50000]

Notice of Inventory Completion: Wisconsin Historical Society, Madison, WI, and Lawrence University, Appleton, WI

AGENCY: National Park Service, Interior.

ACTION: Notice.

SUMMARY: The Wisconsin Historical Society and Lawrence University have completed an inventory of human remains and associated funerary objects, in consultation with the appropriate Indian tribes or Native Hawaiian organizations, and have determined that there is a cultural affiliation between the human remains and associated funerary objects and present-day Indian tribes or Native Hawaiian organizations. Lineal descendants or representatives of any Indian tribe or Native Hawaiian organization not identified in this notice that wish to request transfer of control of these human remains and associated funerary objects should submit a written request to the Wisconsin Historical Society. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Wisconsin Historical Society at the address in this notice by January 9, 2017.

ADDRESSES: Jennifer Kolb, Wisconsin Historical Society, 816 State Street, Madison, WI 53706, telephone (608) 264-6434, email Jennifer.Kolb@wisconsinhistory.org.

SUPPLEMENTARY INFORMATION: Notice is here given in accordance with the Native American Graves Protection and Repatriation Act (NAGPRA), 25 U.S.C. 3003, of the completion of an inventory of human remains and associated funerary objects under the control of the Wisconsin Historical Society, Madison, WI, and in the physical custody of Lawrence University, Appleton, WI. The human remains and associated funerary objects were removed from the Rock Island II site, Door County, WI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Wisconsin Historical Society and Lawrence University professional staff in consultation with representatives of the Forest County Potawatomi Community, Wisconsin; the Ho-Chunk Nation of Wisconsin; the Lac du Flambeau Band of Lake Superior Chippewa Indians of the Lac du Flambeau Reservation of Wisconsin; the Little Traverse Bay Bands of Odawa Indians, Michigan; and the Menominee Indian Tribe of Wisconsin.

History and Description of the Remains

Between 1968 and 1973, human remains representing, at minimum, 12 individuals were removed from the Rock Island II site in Door County, WI. During that time period, extensive excavations of the southwestern portion of the island were conducted by Lawrence University under the direction of archaeologist Ronald Mason. One component of the site was an early historic Native American village and associated cemetery located in the eastern portion of the site and used between 1760 and 1770. Excavation of the cemetery uncovered fourteen burials with remains representing twelve individuals, including an adult male, an adult female, and ten juveniles all under the age of twelve, and their associated funerary objects; two burials no longer contained remains but did contain funerary objects. The remains and most of the associated funerary objects are currently in the physical custody of Lawrence University, but under the control of the Wisconsin Historical Society as the Rock Island II site is located on state land. No known individuals were identified. The 228 associated funerary objects are 14 lots of wood fragments from coffins, 20 lots of beads, 3 samples of red ochre, 2 spoons, 2 samples of vermilion, 1 polished pebble, 7 brass trade kettles, 3 unidentifiable objects, 1 cut and polished shell, 1 lot of silver brooches, 18 individual brooches, 6 silver brooches attached to a fabric fragment, 10 earrings, 1 bell or cup, 3 pendants, 1 wooden paint box, 1 perforated elk tooth, 1 lot of tinklers, 5 individual tinklers, 1 thimble, 10 lots of textile fragments, 1 silver cross, 4 armbands, 5 knives, 1 lot of burned faunal remains, 3 firesteels, 2 awls, 1 catlinite pipe, 2 necklaces, 7 Jesuit rings, 2 samples of charred organic materials, 1 musket, 1 French perfume bottle, 6 gunflints, 1 musket ball, 4 pieces of shot, 2 hairpullers, 1 mirror in shards, 1 sheet of folded brass, 1 kettle handle, 1 pipe tomahawk head, 1 lot of nails, 1 lot of bird bone tubes, 1 lot of antler fragments, 2 bells, 8 scraps of brass, 8 pieces of brass wire, 1 piece of cut iron, 1 piece of lead, 2 pieces of worked wood, 3 silver cylinders, 1 embellished antler tine, 1 carved stone, 2 pot sherds, 20 flint chips, 1 bone comb, 2 ear ornaments, 1 hafted iron ax, 1 cup, 1 French pistol, 2 brass bells, 8 bracelets, 1 limestone cobble, and 1 plaque.

The Rock Island II site is a multi-component site that was episodically occupied starting in the Middle Woodland period. Mason identified four phases of early historic Native American occupation. He attributed the occupation associated with the village and cemetery to the Odawa due, in part, to the 1766 account of Jonathan Carver, a European-American, of spending time with the Odawa there. One of the burials in the cemetery was partially cremated, which Mason noted was uncommon in the Great Lakes region during this period, but accounts from this time referenced this practice among several clans of the Odawa and one Potawatomi clan. According to evidence provided by the Little Traverse Bay Band of Odawa Indians in Michigan, the village and associated cemetery were Odawa, with some Menominee, Ojibwe, and Potawatomi individuals living there because of intermarriage.

Determinations Made by the Wisconsin Historical Society

Officials of the Wisconsin Historical Society have determined that:

• Pursuant to 25 U.S.C. 3001(9), the human remains described in this notice represent the physical remains of 12 individuals of Native American ancestry.

• Pursuant to 25 U.S.C. 3001(3)(A), the 228 objects described in this notice are reasonably believed to have been placed with or near individual human remains at the time of death or later as part of the death rite or ceremony.

• Pursuant to 25 U.S.C. 3001(2), there is a relationship of shared group identity that can be reasonably traced between the Native American human remains and associated funerary objects and the Bad River Band of the Lake Superior Tribe of Chippewa Indians of the Bad River Reservation, Wisconsin; the Bay Mills Indian Community, Michigan; the Forest County Potawatomi Community, Wisconsin; the Grand Traverse Band of Ottawa and Chippewa Indians, Michigan; the Hannahville Indian Community, Michigan; the Ho-Chunk Nation of Wisconsin, the Lac Courte Oreilles Band of Lake Superior Chippewa Indians of Wisconsin; the Lac du Flambeau Band of Lake Superior Chippewa Indians of the Lac du Flambeau Reservation of Wisconsin; Lac Vieux Desert Band of Lake Superior Chippewa Indians of Michigan; the Little River Band of Ottawa Indians, Michigan; the Little Traverse Bay Bands of Odawa Indians, Michigan; the Match-e-be-nash-she-wish Band of Pottawatomi Indians of Michigan; the Menominee Indian Tribe of Wisconsin; the Nottawaseppi Huron Band of the Potawatomi, Michigan (previously listed as the Huron Potawatomi, Inc.); the Pokagon Band of Potawatomi Indians, Michigan and Indiana; the Red Cliff Band of Lake Superior Chippewa Indians of Wisconsin; the Saginaw Chippewa Indian Tribe of Michigan; Sault Ste. Marie Tribe of Chippewa Indians, Michigan; the Sokaogon Chippewa Community, Wisconsin; and the St. Croix Chippewa Indians of Wisconsin (hereto referred to as the Culturally Affiliated Tribes).

Additional Requestors and Disposition

Lineal descendants or representatives of any Indian tribe or Native Hawaiian organization not identified in this notice that wish to request transfer of control of these human remains and associated funerary objects should submit a written request with information in support of the request to Jennifer Kolb, Wisconsin Historical Society, 816 State Street, Madison, WI 53706, telephone (608) 264-6434, email Jennifer.Kolb@wisconsinhistory.org, by January 9, 2017. After that date, if no additional requestors have come forward, transfer of control of the human remains and associated funerary objects to the Culturally Affiliated Tribes may proceed.

The Wisconsin Historical Society is responsible for notifying the Culturally Affiliated Tribes that this notice has been published.

Dated: November 28, 2016.
Melanie O'Brien,
Manager, National NAGPRA Program.

[FR Doc. 2016-29536 Filed 12-8-16; 8:45 am]

BILLING CODE 4312-52-P